ENVIRONMENTAL PROTECTION AGENCY

40 CFR Part 62

[EPA-R01-OAR-2020-0083; FRL-10006-59-Region 1]

Approval and Promulgation of State Plan (Negative Declaration) for Designated Facilities and Pollutants: Vermont

AGENCY: Environmental Protection Agency (EPA).

ACTION: Proposed rule.

SUMMARY: The Environmental Protection Agency (EPA) is proposing to approve a negative declaration submitted to satisfy the requirements of the Emission Guidelines and Compliance Times for Municipal Solid Waste Landfills for the State of Vermont. The negative declaration certifies that there are no existing facilities in the State of Vermont that must comply with this rule.

DATES: Written comments must be received on or before April 23, 2020.

ADDRESSES: Submit your comments, identified by Docket ID No. EPA-R01-OAR-2020-0083 at https://www.regulations.gov, or via email to kilpatrick.jessica@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the For Further Information Contact section. For the full EPA public comment policy, information about CBI or multimedia submissions, and general guidance on making effective comments, please visit https://www2.epa.gov/dockets/commenting-epa-dockets.

FOR FURTHER INFORMATION CONTACT: Jessica Kilpatrick, Air Permits, Toxics, & Indoor Programs Branch, Air and Radiation Division, U.S. Environmental Protection Agency, Region 1, 5 Post Office Square, Mail Code: 05-2, Boston, MA 02109-0287. Telephone: 617-918-1652. Fax: 617-918-0652 Email: kilpatrick.jessica@epa.gov.

SUPPLEMENTARY INFORMATION: In the Final Rules Section of this Federal Register, the EPA is approving the State of Vermont's negative declaration submitted in accordance with 40 CFR 60.23a(b) and 62.06, to satisfy the requirements in the Emission Guidelines and Compliance Times for Municipal Solid Waste Landfills (MSW Landfills Emission Guidelines) for the State of Vermont as a direct final rule without prior proposal because the Agency views this as a noncontroversial submittal and anticipates no adverse comments. See MSW Landfills Emission Guidelines, 81 FR 59276 (August 29, 2016), as amended by 84 FR 32520 (July 8, 2019) (revising Emission Guidelines Implementing Regulations) and 84 FR 44547 (Aug. 26, 2019) (adopting Requirements in Emission Guidelines for MSW Landfills). A detailed rationale for the approval is set forth in the direct final rule. If no adverse comments are received in response to this action, no further activity is contemplated. If the EPA receives adverse comments, the direct final rule will be withdrawn, and all public comments received will be addressed in a subsequent final rule based on this proposed rule. The EPA will not institute a second comment period. Any parties interested in commenting on this action should do so at this time. Please note that if the EPA receives adverse comment on an amendment, paragraph, or section of this rule and if that provision may be severed from the remainder of the rule, the EPA may adopt as final those provisions of the rule that are not the subject of an adverse comment.

For additional information, see the direct final rule which is located in the Rules and Regulations section in this issue of the Federal Register.

Dated: March 18, 2020.
Dennis Deziel,
Regional Administrator, EPA Region 1.

[FR Doc. 2020-06172 Filed 3-23-20; 8:45 am]

BILLING CODE 6560-50-P